SMALL BUSINESS ADMINISTRATION

[Declaration of Disaster #3598; Amdt. #1]

State of New Jersey

In accordance with a notice received from the Department of Homeland Security—Federal Emergency Management Agency—effective July 23, 2004, the above numbered declaration is hereby amended to establish the incident period for this disaster as beginning July 12, 2004 and continuing through July 23, 2004.

All other information remains the same, i.e., the deadline for filing applications for physical damage is September 14, 2004, and for economic injury the deadline is April 18, 2005.

(Catalog of Federal Domestic Assistance Program Nos. 59002 and 59008).

Dated: August 2, 2004.
Herbert L. Mitchell,
Associate Administrator for Disaster Assistance.

[FR Doc. 04-18092 Filed 8-6-04; 8:45 am]

BILLING CODE 8025-01-P